DEPARTMENT OF ENERGY

Western Area Power Administration

Parker-Davis Project-Rate Order No. WAPA-138

AGENCY: Western Area Power Administration, DOE.

ACTION: Notice of Order Concerning Firm Electric and Transmission Service Formula Rates.

SUMMARY: The Deputy Secretary of Energy confirmed and approved Rate Order No. WAPA-138 and Rate Schedules PD-F7, PD-FT7, PD-FCT7, and PD-NFT7 placing firm electric and transmission service formula rates for the Parker-Davis Project (P-DP) of the Western Area Power Administration (Western) into effect on an interim basis. The provisional rates will be in effect until the Federal Energy Regulatory Commission (FERC) confirms, approves, and places them into effect on a final basis or until they are replaced by other rates. The provisional formula rates will provide sufficient revenue to pay all annual costs, including interest expense, and repayment of investment, within the allowable periods.

DATES: Rate Schedules PD-F7, PD-FT7, PD-FCT7, and PD-NFT7 will be placed into effect on an interim basis on the first day of the first full billing period beginning on or after October 1, 2008, and will be in effect until FERC confirms, approves, and places the rate schedules in effect on a final basis through September 30, 2013, or until the rate schedule is superseded.

FOR FURTHER INFORMATION CONTACT: Mr. J. Tyler Carlson, Regional Manager, Desert Southwest Customer Service Region, Western Area Power Administration, P.O. Box 6457, Phoenix, AZ 85005-6457, (602) 605-2453, carlson@wapa.gov, or Mr. Jack Murray, Rates Manager, Desert Southwest Customer Service Region, Western Area Power Administration, P.O. Box 6457, Phoenix, AZ 85005-6457, (602) 605-2442, jmurray@wapa.gov.

SUPPLEMENTARY INFORMATION: Rate Schedules PD-F6, PD-FT6, PD-FCT6, and PD-NFT6 were approved under Rate Order No. WAPA-75 for the period beginning November 1, 1997, and ending September 30, 2002.¹ These rate schedules were extended through September 30, 2004, by the approval of Rate Order No. WAPA-98 on September 13, 2002.² These rate schedules were extended again through September 30, 2006, by the approval of Rate Order No. WAPA-113 approved on September 2, 2004.³ These rate schedules were extended again through September 30, 2008, by Rate Order No. WAPA-131 approved on September 22, 2006.⁴

¹ WAPA-75 was approved by the Deputy Secretary of Energy on November 18, 1997 (62 FR 63150), and confirmed and approved by FERC on a final basis on March 10, 1998, in Docket No. EF98-5041-000 (82 FERC 62164).

² WAPA-98 was approved by the Secretary of Energy on September 13, 2002 (67 FR 60655), filed with FERC for informational purposes only, and docketed by FERC on September 24, 2002, in Docket No. EF02-5041-000.

³ WAPA-113 was approved by the Deputy Secretary of Energy on September 2, 2004 (69 FR 55429), filed with FERC for informational purposes only, and docketed by FERC on September 3, 2004, in Docket No. EF04-5042-000.

⁴ WAPA-131 was approved by the Deputy Secretary of Energy on September 22, 2006 (71 FR 57941), and filed with FERC for informational purposes only, and docketed by FERC on September 22, 2006, in Docket No. EF06-5042-000.

Rate Schedule PD-F6 for firm electric service is being superseded by Rate Schedule PD-F7. Under Rate Schedule PD-F7, the capacity rate is $17.45 per kilowattyear (kWyear), and the energy rate is 3.32 mills per kilowatthour (mills/kWh). The provisional rates in Rate Schedule PD-F7 equal the existing rates under Rate Schedule PD-F6.

Rate Schedules PD-FT6 and PD-FCT6 for firm point-to-point transmission service and firm transmission of Salt Lake City Area/Integrated Projects power are being superseded by Rate Schedules PD-FT7 and PD-FCT7. The provisional transmission rates under Rate Schedules PD-FT7 and PD-FCT7 are $12.96/kWyear, which is equal to the existing rates under Rate Schedules PD-FT6 and PD-FCT6.

Rate Schedule PD-NFT6 for nonfirm transmission service is being superseded by Rate Schedule PD-NFT7. Under Rate Schedule PD-NFT6, the existing nonfirm transmission rate is 2.47 mills/kWh. The provisional nonfirm transmission rate under Rate Schedule PD-NFT7 is 1.48 mills/kWh. A change to the existing formula for calculating the nonfirm transmission rate resulted in a 40 percent decrease when compared to the existing rate. The modification to the nonfirm transmission rate formula ensures that the nonfirm transmission rate will not exceed the firm transmission rate.

By Delegation Order No. 00-037.00, effective December 6, 2001, the Secretary of Energy delegated: (1) The authority to develop power and transmission rates to Western's Administrator; (2) the authority to confirm, approve, and place such rates into effect on an interim basis to the Deputy Secretary of Energy; and (3) the authority to confirm, approve, and place into effect on a final basis, to remand or to disapprove such rates to FERC. Existing DOE procedures for public participation in power rate adjustments (10 CFR part 903) were published on September 18, 1985.

Under Delegation Order Nos. 00-037.00 and 00-001.00C, 10 CFR part 903, and 18 CFR part 300, I hereby confirm, approve, and place Rate Order No. WAPA-138, the proposed P-DP firm electric and transmission service formula rates, into effect on an interim basis. The new Rate Schedules PD-F7, PD-FT7, PD-FCT7, and PD-NFT7 will be promptly submitted to FERC for confirmation and approval on a final basis.

Dated: September 12, 2008.
Jeffery F. Kupfer,
Acting Deputy Secretary.

Department of Energy

Deputy Secretary

Rate Order No. WAPA-138.

In the matter of: Western Area Power Administration Rate Adjustment for the Parker-Davis Project Firm Electric and Transmission Service Formula Rates: Order Confirming, Approving, and Placing the Parker-Davis Project Firm Electric and Transmission Service Formula Rates Into Effect on an Interim Basis

These rates were established in accordance with section 302 of the Department of Energy (DOE) Organization Act (42 U.S.C. 7152). This Act transferred to and vested in the Secretary of Energy the power marketing functions of the Secretary of the Department of the Interior and the Bureau of Reclamation under the Reclamation Act of 1902 (ch. 1093, 32 Stat. 388), as amended and supplemented by subsequent laws, particularly section 9(c) of the Reclamation Project Act of 1939 (43 U.S.C. 485h(c)), and other Acts that specifically apply to the project involved.

By Delegation Order No. 00-037.00, effective December 6, 2001, the Secretary of Energy delegated: (1) The authority to develop power and transmission rates to Western's Administrator; (2) the authority to confirm, approve, and place such rates into effect on an interim basis to the Deputy Secretary of Energy; and (3) the authority to confirm, approve, and place into effect on a final basis, to remand or to disapprove such rates to the Federal Energy Regulatory Commission (FERC). Existing DOE procedures for public participation in power rate adjustments (10 CFR part 903) were published on September 18, 1985.

Acronyms and Definitions

As used in this Rate Order, the following acronyms and definitions apply:

Administrator: The Administrator of the Western Area Power Administration.

Capacity: The electric capability of a generator, transformer, transmission circuit, or other equipment. It is expressed in kilowatts.

Capacity Rate: The rate which sets forth the charges for capacity. It is expressed in dollars per killowattyear and applied to each kW of reservation.

CME: Capitalized Moveable Equipment.

Customer: An entity with a contract that is receiving firm electric service or transmission service from the Parker-Davis Project.

DOE: United States Department of Energy.

DOE Order RA 6120.2: An order outlining power marketing administration financial reporting and ratemaking procedures.

Energy: Measured in terms of the work it is capable of doing over a period of time. It is expressed in kilowatthours.

Energy Rate: The rate which sets forth the charges for energy. It is expressed in mills per kilowatthour and applied to each kilowatthour of reservation.

FERC: The Federal Energy Regulatory Commission.

Firm: A type of product and/or service guaranteed to be available in accordance with the terms of the contract.

FRN: Federal Register notice.

FY: Fiscal year; October 1 to September 30.

kW: Kilowatt—the electrical unit of capacity that equals 1,000 watts.

kWh: Kilowatthour—the electrical unit of energy that equals 1,000 watts in 1 hour.

kWyear: Kilowattyear—the electrical unit of the yearly amount of capacity.

Mill: A monetary denomination of the United States that equals one tenth of a cent or one thousandth of a dollar.

Mills/kWh: Mills per kilowatthour—a unit of charge for energy.

Nonfirm: A type of product and/or service not always available at the time requested by the Customer.

O&M: Operation and Maintenance.

MWD: The Metropolitan Water District of Southern California.

P-DP: The Parker-Davis Project.

Power: Capacity and energy.

Proposed Rate: A rate that has been recommended by Western to the Deputy Secretary of the DOE for approval.

Provisional Rate: A rate which has been confirmed, approved, and placed into effect on an interim basis by the Deputy Secretary of the DOE.

PRS: Power Repayment Study.

Rate Brochure: A document explaining the rationale and background for the rate proposal contained in this Rate Order.

Reclamation: United States Department of the Interior, Bureau of Reclamation.

Reclamation Law: A series of Federal laws. Viewed as a whole, these laws create the originating framework under which Western markets power.

Revenue Requirement: The revenue required to recover annual expenses, such as O&M, purchase power, transmission service expenses, interest, deferred expenses, repayment of Federal investments, and other assigned costs.

SCADA: Supervisory Control and Data Acquisition.

SLCA/IP: Salt Lake City Area/Integrated Projects—the resources of the Collbran, Dolores, Rio Grande, and Seedskadee projects blended together with the CRSP to create the SLCA/IP.

Supporting Documentation: A compilation of data and documents that support the Rate Brochure and the rate proposal.

Western: United States Department of Energy, Western Area Power Administration.

Effective Date

The new interim formula rates will take effect on the first day of the first full billing period beginning on or after October 1, 2008, and will remain in effect until September 30, 2013, pending approval by FERC on a final basis.

Public Notice and Comment

Western followed the Procedures for Public Participation in Power and Transmission Rate Adjustments and Extensions, 10 CFR part 903, in developing these formula rates. The proposed action constituted a minor rate adjustment as defined by 10 CFR part 903.2. As such, Western determined that it was not necessary to hold public information or comment forums. The steps Western took to involve interested parties in the rate process were:

1. On October 11, 2007, Western's Desert Southwest Region mailed a notice announcing an informal meeting to the P-DP customers and interested parties. The informal meeting was held November 14, 2007, in Phoenix, Arizona. At this informal meeting, Western explained the rationale for the rate adjustment, presented options for the proposed formula rates, and answered questions.

2. On December 14, 2007, Western's Desert Southwest Region e-mailed the P-DP customers and interested parties to provide the Web site address to obtain the supplemental information that was requested by the customers at the informal meeting held November 14, 2007.

3. On February 1, 2008, Western's Desert Southwest Region mailed a notice announcing a second informal meeting to the P-DP customers and interested parties. The second informal meeting was held March 12, 2008, in Phoenix, Arizona. At this informal meeting, Western explained the minor rate adjustment process and presented proposed formula rates that included customer input from the informal meeting held November 14, 2008.

4. An FRN published on April 29, 2008 (73 FR 23248), announced the proposed formula rates. This notice began a public consultation and comment period.

5. On May 1, 2008, Western's Desert Southwest Region e-mailed the FRN (73 FR 23248) to the P-DP customers and interested parties and provided the Web site address to obtain a copy of the Rate Brochure and supporting documentation.

6. Western received one comment letter during the consultation and comment period, which ended on May 29, 2008. All formally submitted comments have been considered in preparing this Rate Order.

Comments

Written comments were received from the Irrigation & Electrical Districts Association of Arizona.

Project Description

The P-DP was formed by consolidating two projects, Parker Dam and Davis Dam, under the terms of the Act of May 28, 1954. All facilities of the P-DP were operated and maintained by Reclamation until the formation of the Department of Energy pursuant to the Department of Energy Organization Act (DOE Act). Pursuant to the DOE Act, responsibility for the power marketing functions of Reclamation, including the construction, operation, and maintenance of substations, transmission lines, and attendant facilities, was transferred to the DOE. The responsibility for operation and maintenance of the dams and powerplants remains with Reclamation.

Parker Dam, which created Lake Havasu 155 miles below Hoover Dam on the Colorado River, was authorized by the Rivers and Harbors Act of August 30, 1935. Construction of Parker Dam began in 1934 and was completed in 1942. Reclamation constructed the project partly with funds advanced by the MWD. MWD receives half of the capacity and energy from the four generating units at Parker Dam.

Davis Dam, which created Lake Mohave 67 miles below Hoover Dam on the Colorado River, was authorized under the Reclamation Project Act of 1939. Construction began in 1941, but due to construction delays caused by World War II, it was not completed until 1953. Davis Dam has five generating units.

Power generated from the P-DP is marketed to customers in Arizona, Nevada, and California. Excluding project use, the marketing period effective FY 2009 provides for 198,337 kW of capacity in the winter season and 259,206 kW of capacity in the summer season. Customers receive 1,703 kWh per kW in the winter season and 3,441 kWh per kW in the summer season.

The P-DP transmission system includes 48 substations and over 1,500 circuit miles of transmission lines in Arizona, southern Nevada, and along the Colorado River in California.

Power Repayment Study

Western prepares a PRS each FY to determine if revenues will be sufficient to repay, within the required time, all costs assigned to the P-DP. Repayment criteria are based on law, policies, including DOE Order RA 6120.2, and authorizing legislation.

The provisional formula rates under Rate Schedules, PD-F7, PD-FT-7, and PD-FCT7 are equal to the existing rates. The provisional firm electric service capacity rate under Rate Schedule PD-F7 is $17.45 per kWyear. The provisional firm electric service energy rate under Rate Schedule PD-F7 is 3.32 mills per kWh. The provisional firm point-to-point transmission service rate under Rate Schedule PD-FT7 is $12.96 per kWyear. The provisional firm transmission service rate for transmission of SLCA/IP power under Rate Schedule PD-FCT7 is $12.96 per kWyear. Under Rate Schedule PD-NFT7, the provisional rate for nonfirm transmission service will result in a rate decrease of 40 percent when compared to the existing rate. The existing rate for nonfirm transmission service under Rate Schedule PD-NFT6 is 2.47 mills per kWh. The provisional rate for nonfirm transmission service under Rate Schedule PD-NFT7 is 1.48 mills per kWh.

Existing and Provisional Rates

A comparison of the existing and provisional firm electric and transmission service rates follows:

Parker-Davis Project Comparison of Existing and Provisional Rates
Service | Existing rates | Provisional rates (effective 10/01/08) | Change
Firm Electric Service—Capacity ($/kWyear) | $17.45 | $17.45 | 0%
Firm Electric Service—Energy (mills/kWh) | 3.32 | 3.32 | 0%
Firm Point-to-Point Transmission ($/kWyear) | $12.96 | $12.96 | 0%
Firm Transmission of SLCA/IP Power ($/kWyear) | $12.96 | $12.96 | 0%
Nonfirm Transmission (mills/kWh) | 2.47 | 1.48 | (40%)

Certification of Rates

Western's Administrator certified that the provisional rates for P-DP firm electric and transmission service are the lowest possible rates consistent with sound business principles. The provisional rates were developed following administrative policies and applicable laws.

Firm Electric and Transmission Service Formula Rates Discussion

According to Reclamation Law, Western must establish power and transmission rates sufficient to recover operation, maintenance, purchased power expenses, interest expenses, and repayment of power investment and irrigation aid.

Formula rates for P-DP firm electric and transmission service are calculated annually. Under the rate methodology, costs that are readily identifiable as supporting either generation or transmission functions are directly allocated to generation or transmission revenue requirements. All other costs are apportioned between generation and transmission revenue requirements based on cost allocation factors. Existing cost allocation factors include SCADA, CME, percentage allocation of Western O&M, labor hours devoted to billing, and historic project investment.

Western will modify the existing rate methodology by eliminating the CME, labor hours devoted to billing, and historic project investment cost allocation factors. Western will implement a new cost allocation factor that is the ratio of the number of customers receiving firm electric or transmission service to the total number of customers. A comparison of the affected cost allocation factors follows:

Parker-Davis Project Comparison of Cost Allocation Factors
Cost | Existing factor | Proposed factor
Systemwide (Billing and Finance) | Billing Hours | Ratio of Customers.
Operations/Dispatch | SCADA/Billing Hours | SCADA.
CME | CME Calculation | Percentage Allocation of Western O&M.
Western Principal & Interest | Historic Investment | None (Allocated to Transmission Only).

Western prepared a detailed impact analysis that determined, over the last seven years, the cost allocation factor changes would have resulted in an average annual change to either the transmission or generation revenue requirements of approximately $388,000 or 0.96%. At this time, the firm electric service and firm transmission service rates resulting from the modifications to the rate methodology are equal to existing rates and will provide sufficient revenue to recover generation and transmission revenue requirements. The nonfirm transmission rate is being decreased due to a change in the rate formula, and as a result, it will not exceed the firm point-to-point transmission rate. The change in the nonfirm transmission rate is independent of the changes to the cost allocation factors.

During informal discussions prior to the commencement of the rate adjustment process, Western received a request from customers to modify the billing practices for P-DP long-term firm transmission service. In the request, the customers noted that payments for firm electric service are required one month in advance of service and suggested that all parties be subject to the same billing terms and conditions.

Existing billing practices for P-DP long-term firm transmission service allow customers to pay after the fact, usually one month after service is provided. Additionally, the P-DP rate calculations assume the full and timely collection of revenues. To the extent that customer payments are late or uncollectible, rates may be insufficient to recover revenue requirements. This could result in a rate increase, adversely affecting all P-DP customers. In response to the customers' request, Western will modify the billing practices so that customers will be required to pay for P-DP long-term firm transmission service one month in advance of service. This requirement is incorporated into Rate Schedules PD-FT7 and PD-FCT7.

Statement of Revenue and Related Expenses

The following table provides a summary of projected revenue and expense data for the firm electric and transmission services formula rates through the 5-year provisional rate approval period.

Parker-Davis Project Comparison of 5-Year Rate Period (FY 2009-FY 2013) Total Revenues and Expenses
| Existing rates ($000) | Provisional rates ($000) | Difference ($000)
Total Revenues ¹ | $295,256 | $295,256 | $0
Revenue Distribution
Expenses:
O&M | 161,701 | 161,701 | 0
Purchased Power and Wheeling | 21,043 | 21,043 | 0
Interest | 86,266 | 86,266 | 0
Other | 7,282 | 7,282 | 0
Total Expenses | 276,292 | 276,292 | 0
Principal Payments:
Capitalized Expenses | 0 | 0 | 0
Original Project and Additions | 110 | 110 | 0
Replacements | 18,804 | 18,804 | 0
Irrigation | 50 | 50 | 0
Total Principal Payments | 18,964 | 18,964 | 0
Total Revenue Distribution | 295,256 | 295,256 | 0
¹ Total revenues include approximately $41,625,000 of available revenues from prior periods.

Basis for Rate Development

The existing formula rates for P-DP firm electric and transmission service under Rate Schedules PD-F6, PD-FT6, PD-FCT6, and PD-NFT6 expire September 30, 2008. The provisional formula rates will provide sufficient revenue to pay all annual costs, including interest expense, and repayment of power investment and irrigation aid within the allowable periods. The provisional formula rates will take effect on October 1, 2008, to correspond with the start of the Federal fiscal year, and will remain in effect through September 30, 2013.

Comments

The comments and responses regarding the firm electric and transmission service rates, paraphrased for brevity when not affecting the meaning of the statement(s), are discussed below.

A. Comment: An interested party made a statement with regard to Senate Bill S.2739. Section 513 of that bill contains post-September 11, 2001, security cost legislation which specifies the amount of security costs which will be considered non-reimbursable. The Interested Party requested that Western and Reclamation adjust their budgets to account for the legislation.

Response: Senate Bill S.2739 was signed into law on May 8, 2008. Reclamation is in the process of determining which costs in these rate calculations will be deemed non-reimbursable under the new law. Any security costs ultimately deemed non-reimbursable will be carried into the next fiscal year, reducing FY 2010 revenue requirements.

B. Comment: An interested party sought assurance that the firm electric and transmission service formula rates will include hydrologic data to be collected by Reclamation in July of 2008.

Response: Generation and purchase power forecasts used in the firm electric and transmission service formula rates are based on the most recent Annual Operating Plan (AOP) produced by Western and presented to the customers. The FY 2009 AOP, used to calculate the rates, was based on hydrologic data released by Reclamation on April 7, 2008. Additional revenues or expenses resulting from changes in hydrology will be included in the annual rate calculation for the subsequent year.

Availability of Information

Information about this rate adjustment, including power repayment studies, comments, letters, memorandums, and other supporting material made or kept by Western and used to develop the provisional rates, is available for public review in the Desert Southwest Regional Office, Western Area Power Administration, 615 South 43rd Avenue, Phoenix, Arizona.

Ratemaking Procedure Requirements

Determination Under Executive Order 12866

Western has an exemption from centralized regulatory review under Executive Order 12866; accordingly, no clearance of this notice by the Office of Management and Budget is required.

Submission to the Federal Energy Regulatory Commission

The interim formula rates herein confirmed, approved, and placed into effect, together with supporting documents, will be submitted to FERC for confirmation and final approval.

Order

In view of the above and under the authority delegated to me, I confirm and approve on an interim basis, effective October 1, 2008, Rate Schedules PD-F7, PD-FT7, PD-FCT7, and PD-NFT7 for the Parker-Davis Project of the Western Area Power Administration. The rate schedules shall remain in effect on an interim basis, pending FERC's confirmation and approval of them or substitute rates on a final basis through September 30, 2013.

Dated: September 12, 2008.

Jeffery F. Kupfer,

Acting Deputy Secretary.

Rate Schedule PD-F7 (Supersedes Schedule PD-F6).

United States Department of Energy

Western Area Power Administration

Parker-Davis Project; Schedule of Rates for Firm Electric Service

Effective

The first day of the first full billing period beginning on or after October 1, 2008, through September 30, 2013, or until superseded, whichever occurs earlier.

Available

In the area served by the Parker-Davis Project (P-DP).

Applicable

To firm electric service customers for firm power service supplied through one meter at one point of delivery, unless otherwise provided by service agreement or contract.

Character and Conditions of Service

Alternating current at 60 hertz, three-phase, delivered and metered at the voltages and points of delivery established by service agreement or contract.

Charges

Energy Charge: Each firm electric service customer shall be billed monthly an energy charge. This charge is equal to the customer's monthly contractual energy reservation multiplied by the Energy Rate, rounded to the penny. The Energy Rate shall be equal to 50 percent of the annual generation revenue requirement divided by the estimated total generation delivery commitments, rounded to two decimal places.

Capacity Charge: Each firm electric service customer shall be billed monthly a capacity charge. This charge is equal to the customer's monthly contractual capacity reservation multiplied by the Capacity Rate, rounded to the penny. The Capacity Rate shall be equal to 50 percent of the annual generation revenue requirement divided by the estimated total generation delivery commitments, rounded to two decimal places.

Transmission Charge: Each firm electric service customer shall be billed monthly a transmission charge. This charge is equal to the customer's contractual reservation multiplied by the rate calculated in accordance with PD-FT7, rounded to the penny.

Lower Basin Development Fund Contribution Charge: The contribution charge is 4.5 mills/kWh for each kWh measured or scheduled to an Arizona purchaser and 2.5 mills/kWh for each kWh measured or scheduled to a California or Nevada purchaser.

Billing of Excess Energy

For each month in which there is excess energy available, offered, and delivered to the firm electric service customer, such excess energy shall be billed at the Energy Rate.

Billing for Unauthorized Overruns

For each month in which there is a contract violation involving an unauthorized overrun of energy and/or capacity, such overruns shall be billed at 10 times the Energy and/or Capacity Rate in this rate schedule. For each month in which there is a contract violation involving an unauthorized overrun of transmission, such overrun shall be billed at two times the Transmission Charge in this rate schedule.

Transformer Losses

If delivery is made at transmission voltage but metered on the low-voltage side of the substation, the meter readings will be increased to compensate for transformer losses as provided for in the contract.

Power Factor

The firm electric service customer will normally be required to maintain a power factor at all points of measurement between 95-percent lagging and 95-percent leading.

Rate Schedule PD-FT7 (Supersedes Schedule PD-FT6).

United States Department of Energy

Western Area Power Administration

Parker-Davis Project; Schedule of Rates for Firm Point-to-Point Transmission Service

Effective

The first day of the first full billing period beginning on or after October 1, 2008, through September 30, 2013, or until superseded, whichever occurs earlier.

Available

In the area served by the Parker-Davis Project (P-DP).

Applicable

To firm point-to-point transmission service customers where capacity and energy are supplied to the P-DP system at points of interconnection with other systems and transmitted and delivered, less losses, to points of delivery on the P-DP system.

Character and Conditions of Service

Alternating current at 60 hertz, three-phase, delivered and metered at the voltages and points of delivery established by service agreement or contract.

Long-Term Rate

For transmission service one year or longer, the annual rate for each kilowatt per year is equal to the annual transmission revenue requirement divided by the estimated transmission delivery commitments, rounded to the nearest 12 cent increment. The annual rate for long-term service is payable monthly at a rate for each kilowatt per month equal to the annual rate for long-term service divided by 12.

Short-Term Rates

For transmission service up to one year, the maximum rate for each kW is as follows:

Monthly: Equal to the annual long-term rate, divided by 12 and rounded to two decimal places.

Weekly: Equal to the annual long term rate, divided by 52 and rounded to two decimal places.

Daily: Equal to the annual long term rate, divided by 365 and rounded to two decimal places.

Hourly: Equal to the annual long term rate, divided by 8,760 and rounded to five decimal places.

Discounts may be offered from time to time in accordance with Western's Open Access Transmission Tariff.

Billing

Western will bill firm point-to-point transmission service customers monthly by applying the rates under this rate schedule to the amount of capacity reserved. Payment for service will be required one month in advance of service.

Adjustments for Reactive Power

There shall be no entitlement to transfer of reactive kilovolt-amperes at delivery points, except when such transfers may be mutually agreed upon by the customer and Western or their authorized representatives.

Adjustments for Losses

Capacity and energy losses incurred in connection with the transmission and delivery of capacity and energy under this rate schedule shall be supplied by the customer in accordance with the service agreement or contract.

Overrun of Capacity Reserved

Western will assess a charge for unauthorized use of transmission service at a rate equal to two times the applicable rate for the service at issue. The charge will be applied to use in excess of the reservation amount, which shall be the difference between the amount of transmission service actually used by the customer less the amount of transmission service the customer has reserved. The customer will incur the charge for an overrun during the calendar month or for the period of transmission service if such service is for a term of less than one month.

Rate Schedule PD-FCT7 (Supersedes Schedule PD-FCT6).

United States Department of Energy

Western Area Power Administration

Parker-Davis Project; Schedule of Rate for Firm Transmission Service of Salt Lake City Area/Integrated Projects Power

Effective

The first day of the first full billing period beginning on or after October 1, 2008, through September 30, 2013, or until superseded, whichever occurs earlier.

Available

In the area served by the Parker-Davis Project (P-DP).

Applicable

To Salt Lake City Area/Integrated Projects (SLCA/IP) southern division customers, where SLCA/IP capacity and energy are supplied to the P-DP system by the Colorado River Storage Project (CRSP) at points of interconnection with the CRSP system and transmitted and delivered on a uni-directional basis, less losses, to southern division customers at points of delivery on the P-DP system.

Character and Conditions of Service

Alternating current at 60 hertz, three-phase, delivered and metered at the voltages and points of delivery established by service agreement or contract.

Rate

The annual rate for each kilowatt per year is equal to the annual transmission revenue requirement divided by the estimated transmission delivery commitments, rounded to the nearest 12 cent increment. The annual rate is payable monthly at a rate for each kilowatt per month equal to the annual rate divided by 12.

Billing

Western will bill firm transmission service customers monthly by applying the rates under this rate schedule to the amount of capacity reserved. Payment for service will be required one month in advance of said service.

Adjustments for Reactive Power

There shall be no entitlement to transfer of reactive kilovolt-amperes at delivery points, except when such transfers may be mutually agreed upon by the customer and Western or their authorized representatives.

Adjustments for Losses

Capacity and energy losses incurred in connection with the transmission and delivery of capacity and energy under this rate schedule shall be supplied by the customer in accordance with the service agreement or contract.

Overrun of Capacity Reserved

Western will asses a charge for unauthorized use of transmission service at a rate equal to two times the applicable rate for the service at issue. The charge will be applied to use in excess of the reservation amount, which shall be the difference between the amount of transmission service actually used by the customer less the amount of transmission service the customer has reserved. The customer will incur the charge for an overrun during the calendar month or for the period of transmission service if such service is for a term of less than one month.

Rate Schedule PD-NFT7 (Supersedes Schedule PD-NFT6).

United States Department of Energy

Western Area Power Administration

Parker-Davis Project; Schedule of Rate for Nonfirm Transmission Service

Effective

The first day of the first full billing period beginning on or after October 1, 2008, through September 30, 2013, or until superseded, whichever occurs earlier.

Available

In the area served by the Parker-Davis Project (P-DP).

Applicable

To nonfirm transmission service customers where capacity and energy are supplied to the P-DP system at points of interconnection with other systems and transmitted and delivered, less losses, to points of delivery on the P-DP system.

Character and Conditions of Service

Alternating current at 60 hertz, three-phase, delivered and metered at the voltages and points of delivery established by service agreement or contract.

Rate

The nonfirm transmission service rate for each kilowatt per hour is equal to the annual transmission revenue requirement divided by the estimated transmission delivery commitments, divided by 8,760 and rounded to five decimal places. Discounts may be offered from time to time in accordance with Western's Open Access Transmission Tariff.

Billing

Western will bill nonfirm transmission customers monthly by applying the nonfirm rate under this rate schedule to the amount of capacity reserved.

Adjustments for Reactive Power

There shall be no entitlement to transfer of reactive kilovolt-amperes at delivery points, except when such transfers may be mutually agreed upon by the customer and Western or their authorized representatives.

Adjustments for Losses

Capacity and energy losses incurred in connection with the transmission and delivery of capacity and energy under this rate schedule shall be supplied by the customer in accordance with the service agreement or contract.

[FR Doc. E8-22096 Filed 9-19-08; 8:45 am]

BILLING CODE 6450-01-P